DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Executive Subcommittee.

Time and Date:

October 14, 2008, 1 p.m.-5 p.m.

October 15, 2008, 8:30 a.m.-4:30 p.m.

Place: Radisson Hotel Reagan National Airport, 2020 Jefferson Davis Hwy, Arlington, VA 22202.

Status: Open.

Purpose: The NCVHS Executive Subcommittee will hold a day and a half meeting to review the past year's accomplishments and conduct strategic planning for the coming year. On the afternoon of the first day, the Executive Subcommittee will review their 2008 activities, update operational work plans, and review Committee objectives and strategic plan for future NCVHS directions. On the second day the Subcommittee will continue strategic planning for future NCVHS directions, discuss collaborative activities with the Board of Scientific Counselors at the National Center for Health Statistics, the plans for updating the 21st Century Health Statistics, and the upcoming NCVHS 60th anniversary.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: September 29, 2008.
James Scanlon,
Deputy Assistant Secretary for Science and Data Policy, Office of the Assistant Secretary for Planning and Evaluation.

[FR Doc. E8-23438 Filed 10-3-08; 8:45 am]

BILLING CODE 4151-05-P